DEPARTMENT OF COMMERCE

Foreign-Trade Zones Board

[B-26-2019]

Foreign-Trade Zone (FTZ) 167—Green Bay, Wisconsin; Notification of Proposed Production Activity ProAmpac Holdings, Inc.; (Flexible Packaging Applications) Neenah and Appleton, Wisconsin

ProAmpac Holdings, Inc. (ProAmpac) submitted a notification of proposed production activity to the FTZ Board for its facilities in Neenah and Appleton, Wisconsin. The notification conforming to the requirements of the regulations of the FTZ Board (15 CFR 400.22) was received on April 5, 2019.

The applicant indicates that it will be submitting a separate application for FTZ designation at ProAmpac's facilities under FTZ 167. The facilities are used for the production of flexible packaging for food, medical, pharmaceutical, and other consumer and industrial applications. Pursuant to 15 CFR 400.14(b), FTZ activity would be limited to the specific foreign-status material/component and specific finished products described in the submitted notification (as described below) and subsequently authorized by the FTZ Board.

Production under FTZ procedures could exempt ProAmpac from customs duty payments on the foreign-status material/component used in export production (estimated 5% percent of production). On its domestic sales, for the foreign-status material/component noted below, ProAmpac would be able to choose the duty rates during customs entry procedures that apply to plastic pouch stock, paper can liner and pouch stock, and aluminum laminated packaging stock (duty rate ranges from duty-free to 4.2%). ProAmpac would be able to avoid duty on foreign-status material which becomes scrap/waste. Customs duties also could possibly be deferred or reduced on foreign-status production equipment.

The material/component sourced from abroad is aluminum foil (with gauges not exceeding 0.051mm) (duty rate ranges from 5.3 to 5.8%). The request indicates that aluminum foil is subject to an antidumping/countervailing duty (AD/CVD) order if imported from China. The FTZ Board's regulations (15 CFR 400.14(e)) require that merchandise subject to AD/CVD orders, or items which would be otherwise subject to suspension of liquidation under AD/CVD procedures if they entered U.S. customs territory, be admitted to FTZs in privileged foreign status (19 CFR 146.41). The request also indicates that aluminum foil is subject to special duties under Section 232 of the Trade Expansion Act of 1962 (Section 232) depending on the country of origin. The applicable Section 232 decisions require subject merchandise to be admitted to FTZs in privileged foreign status.

Public comment is invited from interested parties. Submissions shall be addressed to the Board's Executive Secretary at the address below. The closing period for their receipt is May 28, 2019.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Christopher Wedderburn at Chris.Wedderburn@trade.gov or (202) 482-1963.

Dated: April 15, 2019.
Andrew McGilvray,
Executive Secretary.

[FR Doc. 2019-07802 Filed 4-17-19; 8:45 am]

BILLING CODE 3510-DS-P